DEPARTMENT OF AGRICULTURE

Forest Service

Notice of New Recreation Fee Site; Federal Lands Recreation Enhancement Act, (Title VIII, Pub. L. 108-447)

AGENCY: Cherokee National Forest, USDA Forest Service.

ACTION: Notice of new recreation fee site.

SUMMARY: Cherokee National Forest will begin charging a fee for overnight use at three campgrounds presently under construction at dispersed campsites 6, 7 and 8 in the Tellico River Corridor. Birch Branch Campground and Holder Cove Campground will be $10.00 per campsite per day. Rough Ridge Campground, which will accommodate small groups, will be $20.00 campsite per day. These developed campgrounds will facilitate overnight use along the Tellico River on the Tellico Ranger District of Cherokee National Forest. Fee revenue will support maintenance and operation of the campgrounds and future site improvements.

DATES: Construction of the three campgrounds is scheduled to be completed and the facilities opened to the public at different times in 2006. Overnight fees at all three sites will be initiated January 1, 2007.

ADDRESSES: Forest Supervisor, Cherokee National Forest, 2800 Ocoee Street N, Cleveland, TN 37312.

FOR FURTHER INFORMATION CONTACT: Doug Byerly, Recreation Fee Coordinator, 423-476-9748.

SUPPLEMENTARY INFORMATION: The Federal Recreation Lands Enhancement Act (Title VII, Pub. L. 108-447) directed the Secretary of Agriculture to publish advance notice in the Federal Register whenever new recreation fee areas are established. Cherokee National Forest presently manages ten overnight recreation fee sites on the Tellico Ranger District. Recreation fees for overnight use range from $5.00 to $20.00 per campsite per day based on the level of development. Birch Branch, Holder Cove and Rough Ridge campgrounds will each offer a vault toilet facility, visitor information board, self-service fee collection site, bear resistant trash containers, developed campsites with a picnic table, fire ring and lantern post. Campsites will be available on a first come, first served basis.

Dated: May 17, 2006.
H. Thomas Speaks, Jr.,
Cherokee National Forest Supervisor.

[FR Doc. 06-4805 Filed 5-23-06 8:45 am]

BILLING CODE 3410-52-M